DEPARTMENT OF ENERGY

Federal Energy Regulatory Commission

[Project No. 1494-405]

Grand River Dam Authority; Notice of Effectiveness of Withdrawal of Application for Amendment of License

On May 24, 2018, Grand River Dam Authority, licensee for the Pensacola Hydroelectric Project No. 1494, filed an application for a non-capacity amendment for the Coal Creek Wildlife Management Area in compliance with the requirements of Article 411 of the Pensacola Project license ¹ and the 2003 Fish and Waterfowl Habitat Management Plan for the project.² On July 15, 2024, the licensee filed a notice withdrawing the amendment application.

¹ Grand River Dam Auth., 59 FERC ¶ 62,073 (1992) (License Order). Article 411 was added in a 1996 amendment order. See Grand River Dam Auth., 77 FERC ¶ 61,251 (1996).

² Grand River Dam Auth., 103 FERC ¶ 62,102 (2003).

No motion in opposition to the notice of withdrawal has been filed, and the Commission has taken no action to disallow it. Accordingly, pursuant to Rule 216(b) of the Commission's Rules of Practice and Procedure,³ the withdrawal of the application became effective on July 30, 2024.

³ 18 CFR 385.216(b) (2023).

Dated: August 1, 2024.
Debbie-Anne A. Reese,
Acting Secretary.

[FR Doc. 2024-17538 Filed 8-7-24; 8:45 am]

BILLING CODE 6717-01-P